DEPARTMENT OF THE TREASURY

Internal Revenue Service

Agency Information Collection Activities; Comment Request on Burden Related to Guidance Governing Practice Before the Internal Revenue Service

AGENCY: Internal Revenue Service (IRS), Treasury.

ACTION: Notice and request for comments.

SUMMARY: In accordance with the Paperwork Reduction Act of 1995, the IRS is inviting comments on the information collection request outlined in this notice. Currently, the IRS is soliciting comments regarding the burden associated with the guidance governing practice before the Internal Revenue Service.

DATES: Written comments should be received on or before January 20, 2026 to be assured of consideration.

ADDRESSES: Direct all written comments and recommendations to Andrés Garcia, Internal Revenue Service, Room 6526, 1111 Constitution Avenue NW, Washington, DC 20224, or by email at pra.comments@irs.gov. Please include, “OMB Number: 1545-1726—Public Comment Request Notice” in the Subject line.

FOR FURTHER INFORMATION CONTACT: View the latest drafts of the tax forms related to the information collection listed in this notice at https://www.irs.gov/draft-tax-forms. Requests for additional information or copies of this collection should be directed to Ronald J. Durbala, (202) 317-5746 or via email at RJoseph.Durbala@irs.gov.

SUPPLEMENTARY INFORMATION: The IRS, in accordance with the Paperwork Reduction Act of 1995 (PRA) (44 U.S.C. 3506(c)(2)(A)), provides the public and Federal agencies with an opportunity to comment on proposed, revised, and continuing collections of information. This helps the IRS assess the impact and minimize the burden of its information collection requirements. Comments submitted in response to this notice will be summarized and/or included in the request for OMB approval. All comments will become a matter of public record, and viewable on relevant websites. For this reason, please do not include in your comments information of a confidential nature, such as sensitive personal information.

Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Title: Practice Before the Internal Revenue Service.

OMB Number: 1545-1726.

Project Number: Circular 230.

Form Numbers: 2587, 23, 8554, 8554-EP, 8498, 14360, 14364, and 14392.

Abstract: This collection covers the requirements outlined in Circular 230. Circular 230 contains rules governing the recognition of attorneys, certified public accountants, enrolled agents, enrolled retirement plan agents, registered tax return preparers, and other persons representing taxpayers before the Internal Revenue Service.

Current Actions: The purpose of this submission is to consolidate all related collections under one approval number.

Type of Review: Revision of a currently approved collection.

Affected Public: Business or other for-profit; not-for-profit organizations.

Estimated Number of Responses: 94,632

Estimated Time per Respondent: 48 min.

Estimated Total Annual Burden Hours: 75,212.

Approved: November 17, 2025.
Ronald J. Durbala,
IRS Tax Analyst.

[FR Doc. 2025-20271 Filed 11-18-25; 8:45 am]

BILLING CODE 4830-01-P